DEPARTMENT OF THE INTERIOR

Bureau of Land Management

Colorado: Filing of Plats of Survey; (50% to CO-956-1420-BJ-0000-241A), (35% to CO-956-1910-BJ-4720-241A), and (15% to CO-956-9820-BJ-CO01-241A)

July 1, 2003.

Summary: The plats of survey of the following described land will be officially filed in the Colorado State Office, Bureau of Land Management, Lakewood, Colorado, effective 10 am., July 1, 2003. All inquiries should be sent to the Colorado State Office, Bureau of Land Management, 2850 Youngfield Street, Lakewood, Colorado 80215-7093.

The plat representing the dependent resurvey and survey in the N½ NW¼, Section 30, Township 45 North, Range 5 East, New Mexico Principal Meridian, Group 1263, Colorado, was accepted April 14, 2003.

The plat representing the dependent resurvey and survey in Section 13, Township 1 North, Range 80 West, Sixth Principal Meridian, Group 1373, Colorado, was accepted April 28, 2003.

The plat representing the dependent resurvey and survey, in Township 3 North, Range 86 West, Sixth Principal Meridian, Group 1374, Colorado, was accepted April 29, 2003.

The plat representing the dependent resurvey and survey in Township 42 North, Range 18 West, New Mexico Principal Meridian, Group 1331, Colorado, was accepted April 29, 2003.

The plat representing the dependent resurvey and survey in Township 34 North, Range 7 West, New Mexico Principal Meridian, Group 1342, Colorado, was accepted April 15, 2003.

The plat, of the entire record, representing the dependent resurvey in Township 33 South, Range 65 West, Sixth Principal Meridian, Group 1361, Colorado, was accepted May 8, 2003.

The plat, of the entire record, representing the dependent resurvey and survey in Township 51 North, Range 10 East, New Mexico Principal Meridian, Group 1321, Colorado, was accepted May 8, 2003.

The plat representing the corrective dependent resurvey in Township 33 North, Range 9 West, New Mexico Principal Meridian, Group 1138, Colorado, was accepted June 3, 2003.

The supplemental plat, creating new lots 19 and 20 from old lot 13 and new lots 21 and 22 from old lot 18, in section 20, Township 13 South, Range 72 West, Sixth Principal Meridian, Colorado, was accepted May 14, 2003.

These surveys and plats were requested by the Bureau of Land Management for administrative and management purposes.

The plat representing the dependent resurvey, corrective resurvey and survey, in Sections 30 and 31, Township 41 North, Range 2 East, New Mexico Principal Meridian, Group 1367, Colorado, was accepted April 8, 2003.

This survey and plat was requested by the Forest Supervisor, Rio Grande National Forest, to identify the boundaries between forest and patented lands, and management purposes.

The plat representing the dependent resurvey, and surveys, Township 24 South, Range 68 West, Sixth Principal Meridian, Group 1250, Colorado, was accepted June 3, 2003.

The plat, of the entire record, representing the remonumentation of certain original corners in Township 10 South, Range 72 West, Sixth Principal Meridian, Group 750, Colorado, was accepted June 23, 2003.

The plat, of the entire record, representing the remonumentation of certain original corners in Township 14 South, Range 80 West, Sixth Principal Meridian, Group 750, Colorado, was accepted June 26, 2003.

The plat, of the entire record, representing the remonumentation of certain original corners in Township 31 South, Range 68 West, Sixth Principal Meridian, Group 750, Colorado, was accepted June 26, 2003.

The plat, of the entire record, representing the remonumentation of certain original corners in Township 14 South, Range 68 West, Sixth Principal Meridian, Group 750, Colorado, was accepted June 26, 2003.

The plat, of the entire record, representing the remonumentation of certain original corners in Township 14 South, Range 69 West, Sixth Principal Meridian, Group 750, Colorado, was accepted June 26, 2003.

These surveys, plats and remonumentations were requested by the Forest Supervisor, Pike and San Isabel National Forests, to identify forest boundaries for administrative and management purposes.

The plat representing the dependent resurvey and survey in Township 9 North, Range 102 West, Sixth Principal Meridian, Group 1368, Colorado, was accepted April 24, 2003.

The plat representing the dependent resurvey and survey in Township 10 North, Range 103 West, Sixth Principal Meridian, Group 1368, Colorado, was accepted April 24, 2003.

The plat representing the dependent resurvey and survey in Township 10 North, Range 104 West, Sixth Principal Meridian, Group 1368, Colorado, was accepted April 24, 2003.

These surveys and plats were requested by the U.S. Fish and Wildlife Service, Regional Office, Denver, to identify the Public Land boundaries of the Browns Park Wildlife Refuge, in NW Colorado.

The plat (in two sheets), representing the dependent resurvey and surveys in Township 48 North, Range 4 West, New Mexico Principal Meridian, Group 1344, Colorado, was accepted June 23, 2003.

This survey and plats were requested by the National Park Service, Superintendent, Curecanti National Recreation Area and Black Canyon of the Gunnison National Park, to identify the Public Land boundaries for management purposes.

Darryl A. Wilson,
Chief Cadastral Surveyor for Colorado.

[FR Doc. 03-17538 Filed 7-10-03; 8:45 am]

BILLING CODE 4310-JB-P